DEPARTMENT OF TRANSPORTATION

Federal Railroad Administration

Environmental Impact Statement for the California High Speed Train System From Los Angeles to Orange County, CA

AGENCY: Federal Railroad Administration (FRA) Department of Transportation (DOT).

ACTION: Notice of Intent to Prepare an Environmental Impact Statement.

SUMMARY: FRA is issuing this notice to advise the public that FRA and the California High Speed Rail Authority (Authority) will jointly prepare a project level Environmental Impact Statement (EIS) and project level Environmental Impact Report (EIR) for the section of the Authority's proposed California High-Speed Train (HST) System from the City of Los Angeles (Union Station) to Orange County (Anaheim) in compliance with relevant State and federal laws, in particular the California Environmental Quality Act (CEQA) and the National Environmental Policy Act (NEPA).

FRA is issuing this notice to solicit public and agency input into the development of the scope of the EIS and to advise the public that outreach activities conducted by the Authority and its representatives will be considered in the preparation of the combined EIR/EIS. The Authority and FRA completed a Program EIR/EIS for the California HST System in 2005 as the first-phase of a tiered environmental review process for the proposed California HST System. The Authority certified the Final Program EIR and issued a decision, and FRA issued a Record of Decision in November 2005 on the Final Program EIS, selecting the HST Alternative for further project level environmental review and selecting corridor alignments and potential station locations, including a corridor between Los Angeles and Orange County. The preparation of this project level Los Angeles-Orange County HST EIR/EIS will involve development of preliminary engineering designs and assessment of environmental effects associated with the construction, operation, and maintenance of the HST system, including track, ancillary facilities and stations, along the previously selected Los Angeles-Orange County corridor.

DATES: Written comments on the scope of the Los Angeles-Orange County HST EIR/EIS should be provided to the Authority by April 24, 2007. Public scoping meetings are scheduled from April 5-April 12, 2007, as noted below.

ADDRESSES: Written comments on the scope should be sent to Mr. Dan Leavitt, Deputy Director, ATTN. Los Angeles—Orange County, California High-Speed Rail Authority, 925 L Street, Suite 1425, Sacramento, CA 95814, or via e-mail with the subject line “Los Angeles-Orange County HST” to: comments@hsr.ca.gov. Comments may also be provided orally or in writing at the scoping meetings scheduled at the following locations:

• Union Station/METRO (Los Angeles), METRO Board Room, One Gateway Plaza, Los Angeles, CA 90012, on April 5, 2007, from 3 p.m. to 5 p.m. and from 6 p.m. to 8 p.m.

• Anaheim, Gordon Hoyt Conference Room, City Hall West, 201 S. Anaheim Boulevard, Anaheim, CA on April 11, 2007, from 3 p.m. to 5 p.m. and from 6 p.m. to 8 p.m..

• Norwalk, Arts & Sports Complex Community Meeting Center (Sproul Room), 13000 Clarkdale Avenue, Norwalk, CA 90651 on April 12, 2007, from 3 p.m. to 5 p.m. and from 6 p.m. to 8 p.m..

FOR FURTHER INFORMATION CONTACT: Mr. David Valenstein, Environmental Program Manager, Office of Railroad Development, Federal Railroad Administration, 1120 Vermont Avenue (Mail Stop 20), Washington, DC 20590; Telephone (202) 493-6368, or Mr. Leavitt at the above noted address.

SUPPLEMENTARY INFORMATION: The California High-Speed Rail Authority (Authority) was established in 1996 and is authorized and directed by statute to undertake the planning for the development of a proposed statewide HST network that is fully coordinated with other public transportation services. The Legislature has granted the Authority the powers necessary to oversee the construction and operation of a statewide HST network once financing is secured. As part of the Authority's efforts to implement a high-speed train system, the Authority adopted a Final Business Plan in June 2000, which reviewed the economic feasibility of a 700-mile long HST system capable of speeds in excess of 200 miles per hour on a dedicated, fully grade-separated state-of-the art track.

The FRA has responsibility for oversight of the safety of railroad operations, including the safety of any proposed high-speed ground transportation system. For the proposed HST, it is anticipated that FRA would need to take certain regulatory actions prior to operation.

In 2005, the Authority and FRA completed a Final Program EIR/EIS for the Proposed California High-Speed Train System (statewide program EIR/EIS), as the first-phase of a tiered environmental review process. The Authority certified the Final Program EIR under CEQA and approved the proposed HST System, and FRA issued a Record of Decision under NEPA on the Final Program EIS. This statewide program EIR/EIS established the purpose and need for the HST system, analyzed a HST alternative, and compared it with a No Project/No Action Alternative and a Modal Alternative. In approving the statewide program EIR/EIS, the Authority and FRA selected the HST Alternative and selected certain corridors/general alignments and general station locations, incorporated mitigation strategies and design practices, and specified further measures to guide the development of the HST System at the site-specific project level of environmental review to avoid and minimize potential adverse environmental impacts.

The Los Angeles-Orange County HST EIR/EIS will be developed as a second-tier, site-specific environmental document. It is one of a number of second-tier environmental reviews for sections of the HST system that FRA and the Authority intend to undertake. It will be tiered from and incorporate by reference the certified statewide program EIR/EIS in accordance with Council on Environmental Quality (CEQ) regulations (40 CFR 1508.28) and State CEQA Guidelines (14 C.C.R. § 15168[b]). Tiering will ensure that the Los Angeles-Orange County HST EIR/EIS builds upon all previous work prepared for and incorporated in the statewide program EIR/EIS. The EIR/EIS will be carried out in accordance with FRA's Procedures for Considering Environmental Impacts (64 FR 28545 [May 26, 1999]) and will address not only NEPA and CEQA, but other applicable statutes, regulations and executive orders, including the 1990 Clean Air Act Amendments, Section 404 of the Clean Water Act, the National Historic Preservation Act of 1966, Section 4(f) of the Department of Transportation Act, the Endangered Species Act, and Executive Order 12898 on Environmental Justice. This EIR/EIS process will also continue the NEPA/Clean Water Act Section 404 merger process established through the statewide program EIR/EIS process.

The Los Angeles-Orange County HST EIR/EIS and other project level EIR/EISs will examine a range of project alternatives for portions of the proposed HST system within corridors selected in the statewide program EIR/EIS, as well as a no action alternative. This and other project level EIR/EISs will fully describe site-specific environmental impacts and will identify specific mitigation measures to address those impacts and will incorporate design practices to avoid and minimize potential adverse environmental impacts. The FRA and the Authority will assess the site characteristics, size, nature, and timing of proposed site-specific projects to determine whether the impacts are potentially significant and whether impacts can be avoided or mitigated. This and other project EIR/EISs will identify and evaluate reasonable and feasible site-specific alignment alternatives, evaluate the impacts from construction, operation, and maintenance of the HST system, and identify mitigation measures. Information and documents regarding the HST environmental review process will be made available through the Authority's Internet site: http://www.cahighspeedrail.gov/.

Purpose and Need: The need for a HST system is directly related to the expected growth in population, and increases in intercity travel demand in California over the next twenty years and beyond. With growth in travel demand, there will be an increase in travel delays arising from the growing congestion on California's highways and at airports. In addition, there will be negative effects on the economy, quality of life, and air quality in and around California's metropolitan areas from a transportation system that will become less reliable as travel demand increases. The intercity highway system, commercial airports, and conventional passenger rail serving the intercity travel market are currently operating at or near capacity, and will require large public investments for maintenance and expansion to meet existing demand and future growth. The purpose of the proposed HST system is to provide a new mode of high-speed intercity travel that would link the major metropolitan areas of the state; interface with international airports, mass transit, and highways; and provide added capacity to meet increases in intercity travel demand in California in a manner sensitive to and protective of California's unique natural resources.

Alternatives: The Los Angeles-Orange County HST EIR/EIS will consider a No Action or No Project Alternative and HST Alternatives for the Los Angeles to Orange County corridor.

No Action Alternative: The take no action (No Project or No Build) alternative is defined to serve as the baseline for assessment of the HST Alternative. The No Build Alternative represents the region's transportation system (highway, air, and conventional rail) as it existed in 2006, and as it would exist after completion of programs or projects currently planned for funding and implementation by 2030. The No Build Alternative defines the existing and future intercity transportation system for the Los Angeles to Orange County corridor based on programmed and funded improvements to the intercity transportation system through 2030, according to the following sources of information: State Transportation Improvement Program (STIP), Regional Transportation Plans (RTPs) for all modes of travel, airport plans, and intercity passenger rail plans.

HST Alternative: The Authority proposes to construct, operate and maintain an electric-powered steel-wheel-on-steel-rail HST system, over 700-mile long (1,126-kilometer long), capable of speeds in excess of 200 miles per hour (mph) (320 kilometers per hour [km/h]) on dedicated, fully grade-separated tracks, with state-of-the-art safety, signaling, and automated train control systems. The Los Angeles to Orange County corridor that was selected by the Authority and FRA with the statewide program EIR/EIS follows the existing BNSF/Metrolink rail corridor (also known as the LOSSAN Corridor) from Los Angeles Union Station as far south as Irvine. The Los Angeles-Orange County HST EIR/EIS will consider HST service from Los Angeles to Anaheim. The HST system can provide service to Orange County with a terminus in Anaheim. Beyond Anaheim right-of-way is constrained and environmental conditions are different. HST service beyond Anaheim to Irvine may be considered separately in the future.

Further engineering studies to be undertaken as a part of this EIR/EIS process will examine and refine alignments in the selected corridor, including the alignment option identified in the statewide program EIR/EIS that shares tracks with other passenger services separated from freight trains with 4 total tracks (2 for passenger rail service and 2 for freight service) between Los Angeles and Fullerton and 2 total tracks with additional passing tracks South of Fullerton. With this alignment option, the electrified HST would share tracks (at reduced speeds) with non-electric Metrolink commuter rail, Amtrak Surfliner intercity services and occasional freight trains (there are fewer freight operations south of Fullerton). This alignment option is based on the premise that the capacity and compatibility issues associated with the shared operations with existing non-electric service (Surfliners, Metrolink, and freight) can be resolved. Additional alignment options will be considered that involve dedicated HST tracks that may be exclusive to HST service or that may also accommodate Metrolink express services.

Station location options were selected by the Authority and FRA with the statewide program EIR/EIS considering travel time, train speed, cost, local access times, potential connections with other modes of transportation, ridership potential, and the distribution of population and major destinations along the route, and local planning constraints/conditions. Alternative station sites at the selected general station locations will be identified and evaluated in this project level EIR/EIS. Station area development policies to encourage transit-friendly development near and around HST stations that would have the potential to promote higher density, mixed-use, pedestrian-oriented development will be prepared in coordination with local and regional planning agencies. Potential station locations to be evaluated in the Los Angeles-Orange County HST EIR/EIS include: City of Los Angeles-Union Station; City of Norwalk-Norwalk Transportation Center; and City of Anaheim-Anaheim Regional Transportation Intermodal Center (ARTIC). In addition, potential sites for turnback/layover train storage facilities and a main HST repair and heavy maintenance facility will be evaluated in the Los Angeles-Orange County HST EIR/EIS.

Probable Effects: The purpose of the EIR/EIS process is to explore in a public setting the effects of the proposed project on the physical, human, and natural environment. The FRA and the Authority will continue the tiered evaluation of all significant environmental, social, and economic impacts of the construction and operation of the HST system. Impact areas to be addressed include: Transportation impacts; safety and security; land use and zoning; secondary development; land acquisition, displacements, and relocations; cultural resource impacts, including impacts on historical and archaeological resources and parklands/recreation areas; neighborhood compatibility and environmental justice; natural resource impacts including air quality, wetlands, water resources, noise, vibration, energy, wildlife and ecosystems, including endangered species. Measures to avoid, minimize, and mitigate all adverse impacts will be identified and evaluated.

Scoping and Comments: FRA encourages broad participation in the EIS process during scoping and review of the resulting environmental documents. Comments and suggestions are invited from all interested agencies and the public at large to insure the full range of issues related to the proposed action and all reasonable alternatives are addressed and all significant issues are identified. In particular, FRA is interested in determining whether there are areas of environmental concern where there might be a potential for significant impacts identifiable at a project level. Public agencies with jurisdiction are requested to advise FRA and the Authority of the applicable permit and environmental review requirements of each agency, and the scope and content of the environmental information that is germane to the agency's statutory responsibilities in connection with the proposed project. Public agencies are requested to advise FRA if they anticipate taking a major action in connection with the proposed project and if they wish to cooperate in the preparation of the project level EIR/EIS. Public scoping meetings have been scheduled as an important component of the scoping process for both the State and Federal environmental review. The scoping meetings described in this Notice will also be advertised locally and included in additional public notification.

Issued in Washington, DC, on March 9, 2007.
Mark E. Yachmetz,
Associate Administrator for Railroad Development.

[FR Doc. E7-4710 Filed 3-14-07; 8:45 am]

BILLING CODE 4910-06-P